DEPARTMENT OF HOUSING AND URBAN DEVELOPMENT

[Docket No. FR-4630-FA-03]

Announcement of Funding Awards for Fiscal Year 2001 Community Outreach Partnership Centers

AGENCY: Office of the Assistant Secretary for Policy Development and Research, HUD.

ACTION: Announcement of funding awards.

SUMMARY: In accordance with section 102 (a)(4)(C) of the Department of Housing and Urban Development Reform Act of 1989, this document notifies the public of funding awards for Fiscal Year 2001 Community Outreach Partnership Centers Program. The purpose of this document is to announce the names and addresses of the award winners and the amount of the awards which are to be used to establish and operate Community Outreach Partnership Centers that will: (1) Conduct competent and qualified research and investigation on theoretical or practical problems in large and small cities; and (2) facilitate partnerships and outreach activities between institutions of higher education, local communities, and local governments to address urban problems.

FOR FURTHER INFORMATION CONTACT: Barbara Holland, Office of University Partnerships, U.S. Department of Housing and Urban Development, Room 8110, 451 Seventh Street, SW., Washington, DC 20410, telephone (202) 708-3061. To provide service for persons who are hearing-or-speech-impaired, this number may be reached via TTY by Dialing the Federal Information Relay Service on 1-800-877-TTY, 1-800-877-8339, or 202-708-1455. (Telephone number, other than “800” TTY numbers are not toll free.)

SUPPLEMENTARY INFORMATION: The Community Outreach Partnership Centers Program was enacted in the Housing and Community Development Act of 1992 (Pub. L. 102-550, approved October 28, 1992) and is administered by the Office of University Partnerships under the Assistant Secretary for Policy Development and Research. In addition to this program, the Office of University Partnerships administers HUD's ongoing grant programs to institutions of higher education as well as creates initiatives through which colleges and universities can bring their traditional missions of teaching, research, service, and outreach to bear on the pressing local problems in their communities.

The Community Outreach Partnership Centers Program provides funds for: research activities which have practical application for solving specific problems in designated communities and neighborhoods; outreach, technical assistance and information exchange activities which are designed to address specific problems associated with housing, economic development, neighborhood revitalization, infrastructure, health care, job training, education, crime prevention, planning, and community organizing. On February 26, 2001 (66 FR 11725), HUD published a Notice of Funding Availability (NOFA) announcing the availability of $8 million in Fiscal Year 2001 funds for the Community Outreach Partnership Centers Program. The Department reviewed, evaluated and scored the applications received based on the criteria in the NOFA. As a result, HUD has funded 16 applications for New Grants and 8 applications for New Directions Grants. New Grants, which cannot exceed $400,000, are for institutions of higher education just beginning a COPC project. New Directions Grants, which cannot exceed $150,000, are for institutions of higher education that are undertaking new activities or expanding into new neighborhoods. These grants, with their grant amounts are identified below.

The Catalog Federal Domestic Assistance number for this program is 14.511.

In accordance with section 102(a) (4) (C) of the Department of Housing and Urban Development Reform Act of 1989 (103 Stat. 1987, U.S.C. 3545), the Department is publishing details concerning the recipients of funding awards, as follows:

List of Awardees for Grant Assistance Under the FY 2001

Community Outreach Partnership Centers Funding Competition, by Name and Address

New England

1. Housatonic Community College, Dr. Robert Thorton, Housatonic Community College, 900 Lafayette Blvd., Bridgeport, CT 06604. Grant: $399,574.

New York/New Jersey

2. Montclair State University, Dr. Freyda Lazarus, Montclair State University, Normal Avenue, Upper Montclair, NJ 07043. Grant: $399,010.

3. New Jersey City University, Dr. Jill Lewis, New Jersey City University, 2039 Kennedy Blvd., Jersey City, NJ 07305. Grant: $368,624.

4. Rensselaer Polytechnic Institute, Patricia Gray, Rensselaer Polytechnic Institute, 110 Eighth Street, Troy, NY 12180. Grant: $397,875.

Mid-Atlantic

5. George Mason University, Dr. Todd Endo, George Mason University, 4400 University Drive, MSN 4C6, Fairfax, VA 22030. Grant: $150,000.

Southeast/Caribbean

6. Gadsden State Community College, Dr. Brenda Crowe, Gadsden State Community College, P.O. Box 227, 1001 George Wallace Drive, Gadsden, AL 35902. Grant: $400,00.

7. Georgia State University, Dr. Douglas Greenwell, Georgia State University, University Plaza, Atlanta, GA 30303. Grant: $150,000.

8. University of Kentucky, Dr. Retia Walker, University of Kentucky, 201 Kinkead Hall, Lexington, KY 40506. Grant: $399,974.

Midwest

9. Calvin College, Dr. Steven Timmermans, Calvin College, 3201 Burton Street, SE, Grand Rapids, MI 49546. Grant: $399,949.

10. Cleveland State University, Dr. Philip Starr, Cleveland State University, 1717 Euclid Avenue, Cleveland, OH 44115. Grant: $149,279.

11. Eastern Michigan University, Dr. David Clifford, Starkweather Hall, 2nd Floor, Ypsilanti, MI 48197. Grant: $394,555.

12. Southern Illinois University Carbondale, Dr. Tess Heiple, Southern Illinois University Carbondale, Carbondale, IL 62901. Grant: $399,999.

13. University of Chicago, Colleen Burrus, University of Chicago, 5801 Ellis Avenue, Chicago, IL 606037. Grant: $399,999.

14. University of Illinois, Dr. R. Varkki George, University of Illinois, 801 S. Wright Street, 109 Coble Hall, Champaign, IL 61820. Grant: $149,974.

15. University of Minnesota, Dr. Fred Smith, University of Minnesota, 450 McNamara Center, 200 Oak Street SE, Minneapolis, MN 55455. Grant: $149,578.

Southwest

16. Louisiana State University, Dr. Gregory Vincent, Louisiana State University, 330 Thomas Boyd Hall, Baton Rouge, LA 70803. Grant: $399,766.

17. University of Texas at Brownsville and Texas Southmost College, Dr. Delina Barrera, University of Texas at Brownsville and Texas Southmost College, 80 Fort Brown, Brownsville, TX 78520. Grant: $399,000.

Great Plains

18. University of Missouri-St. Louis, Dr. Alan Artibise, University of Missouri-St. Louis, 341 Woods Hall, 8001 Natural Bridge Road, St. Louis, MO 63121. Grant: $399,566.

19. University of Nebraska-Lincoln, Norm Braaten, University of Nebraska-Lincoln, 303 Administration Building, Lincoln, NE 68588. Grant: $388,914.

Rocky Mountains

20. University of Colorado at Denver, Dr. Tony Robinson, University of Colorado at Denver Campus Box 129, P.O. Box 173364, Denver, CO 80217. Grant: $149,917.

Pacific/Hawaii

21. California State Polytechnic Institute, Pomona, Dr. Audrey Fine, California State Polytechnic Institute, Pomona, 3801 West Temple Avenue, Pomona, CA 91768. Grant: $399,979.

22. University of California, Irvine, Keith Taylor, University of California, Irvine, 160 Administration Building, Irvine, CA 92697. Grant: $149,505.

23. University of California, San Diego, Dr. Vivian Reznik, University of California, San Diego, 9500 Gilman Drive, 0934, La Jolla, CA 92093. Grant: $150,000.

24. University of the Pacific, Carol Brodie, University of the Pacific, 3601 Pacific Avenue, Stockton, CA 95211. Grant: $399,643.

Dated: October 4, 2001.
Lawrence L. Thompson,
General Deputy Assistant Secretary for Policy Development and Research.

[FR Doc. 01-26334 Filed 10-18-01; 8:45 am]

BILLING CODE 4210-62-P